DEPARTMENT OF COMMERCE

National Oceanic and Atmospheric Administration

15 CFR Part 902

50 CFR Parts 300 and 679

[Docket No. 151001910-6999-02]

RIN 0648-BF42

Fisheries of the Exclusive Economic Zone Off Alaska; Allow the Use of Longline Pot Gear in the Gulf of Alaska Sablefish Individual Fishing Quota Fishery; Amendment 101

AGENCY: National Marine Fisheries Service (NMFS), National Oceanic and Atmospheric Administration (NOAA), Commerce.

ACTION: Stay of final rule.

SUMMARY: In accordance with the memorandum of January 20, 2017, from the Assistant to the President and Chief of Staff, entitled “Regulatory Freeze Pending Review,” published in the Federal Register on January 24, 2017 (the Memorandum), this action stays the final rule NMFS published on December 28, 2016, in order to delay its effective date.

DATES: Effective January 31, 2017, the final rule amending 15 CFR part 902 and 50 CFR parts 300 and 679 that published on December 28, 2016, at 81 FR 95435, is stayed to March 12, 2017.

FOR FURTHER INFORMATION CONTACT: Rachel Baker, 907-586-7228.

SUPPLEMENTARY INFORMATION: On December 28, 2016, NMFS published this final rule to implement Amendment 101 to the Fishery Management Plan for Groundfish of the Gulf of Alaska (GOA FMP) for the sablefish individual fishing quota (IFQ) fisheries in the Gulf of Alaska (GOA). This final rule authorizes the use of longline pot gear in the GOA sablefish IFQ fishery. In addition, this final rule establishes management measures to minimize potential conflicts between hook-and-line and longline pot gear used in the sablefish IFQ fisheries in the GOA. This final rule also includes regulations developed under the Northern Pacific Halibut Act of 1982 (Halibut Act) to authorize harvest of halibut IFQ caught incidentally in longline pot gear used in the GOA sablefish IFQ fishery. This final rule is necessary to improve efficiency and provide economic benefits for the sablefish IFQ fleet and minimize potential fishery interactions with whales and seabirds. This action is intended to promote the goals and objectives of the Magnuson-Stevens Fishery Conservation and Management Act, the Halibut Act, the GOA FMP, and other applicable laws.

On January 20, 2017, the White House issued a memo instructing Federal agencies to temporarily postpone the effective date for 60 days after January 20, 2017, of any regulations or guidance documents that have published in the Federal Register but not yet taken effect, for the purpose of “reviewing questions of fact, law, and policy they raise.” Because its effective date has already passed, we are enacting this stay of the rule published on December 28, 2016, at 81 FR 95435 (see DATES above) until March 12, 2017.

List of Subjects

15 CFR Part 902

Reporting and recordkeeping requirements.

50 CFR Part 300

Administrative practice and procedure, Antarctica, Canada, Exports, Fish, Fisheries, Fishing, Imports, Indians, Labeling, Marine resources, Reporting and recordkeeping requirements, Russian Federation, Transportation, Treaties, Wildlife.

50 CFR Part 679

Alaska, Fisheries, Reporting and recordkeeping requirements.

Dated: January 26, 2017.
Alan D. Risenhoover,
Acting Deputy Assistant Administrator for Regulatory Programs, National Marine Fisheries Service.

For the reasons set out in the preamble, NMFS amends 15 CFR part 902, and 50 CFR parts 300 and 679 as follows:

Title 15—Commerce and Foreign Trade

PART 902—NOAA INFORMATION COLLECTION REQUIREMENTS UNDER THE PAPERWORK REDUCTION ACT: OMB CONTROL NUMBERS

1. The authority citation for part 902 continues to read as follows:

Authority: 44 U.S.C. 3501 et seq.

§ 902.1 [Amended]

2. In § 902.1, in the table in paragraph (b), under the entry “50 CFR”, entries for “679.24(a)”, “679.42(a) through (j)”, and “679.24”, “679.42(b), (k)(2), and (l)” are stayed until March 12, 2017.

Title 50—Wildlife and Fisheries

PART 300—INTERNATIONAL FISHERIES REGULATIONS

Subpart E—Pacific Halibut Fisheries

3. The authority citation for part 300, subpart E, continues to read as follows:

Authority: 16 U.S.C. 773-773k.

§ 300.61 [Amended]

4. In § 300.61, the definitions of “Fishing” and “IFQ halibut” are stayed until March 12, 2017.

PART 679—FISHERIES OF THE EXCLUSIVE ECONOMIC ZONE OFF ALASKA

5. The authority citation for part 679 continues to read as follows:

Authority: 16 U.S.C. 773 et seq.; 1801 et seq.; 3631 et seq.; Pub. L. 108-447; Pub. L. 111-281.

§ 679.2 [Amended]

6. In § 679.2, the definition of “Authorized fishing gear,” paragraphs (4)(i), (iii), and (iv), and the definition of “IFQ halibut” are stayed until March 12, 2017.

§ 679.5 [Amended]

7. In § 679.5, paragraph (a)(4)(i), the note to the table at paragraph (c)(1)(vi)(B), paragraphs (c)(2)(iii)(A), (c)(3)(i)(B), (c)(3)(ii)(A)(1), (c)(3)(ii)(B)(1), (c)(3)(iv)(A)(2), (c)(3)(iv)(B)(2), (c)(3)(v)(G), (l)(1)(iii)(F) and (G), and (l)(1)(iii)(H) and (I) are stayed until March 12, 2017.

§ 679.7 [Amended]

8. In § 679.7, paragraphs (a)(6) introductory text, (a)(6)(i), (a)(13) introductory text, (a)(13)(ii) introductory text, (a)(13)(iv), and (f)(17) through (25) are stayed until March 12, 2017.

§ 679.20 [Amended]

9. In § 679.20, paragraph (a)(4)(i), the paragraph (a)(4)(ii) heading, and paragraph (a)(4)(ii)(A) are stayed until March 12, 2017.

§ 679.23 [Amended]

10. In § 679.23, paragraph (g)(2) is stayed until March 12, 2017.

§ 679.24 [Amended]

11. In § 679.24, paragraphs (a)(3), (b)(1)(iii), (c)(2)(i)(A) and (B), and (c)(3) are stayed until March 12, 2017.

§ 679.42 [Amended]

12. In § 679.42, paragraphs (b)(1) and (2), (k)(1) and (2), and paragraph (l) are stayed until March 12, 2017.

§ 679.51 [Amended]

13. In § 679.51, paragraphs (a)(1)(i) introductory text and (a)(1)(i)(B) are stayed until March 12, 2017.

Table 15 to Part 679—[Amended]

14. In Table 15 to part 679, entries for “Pot”, “Authorized gear for sablefish harvested from any GOA reporting area”, and “Authorized gear for halibut harvested from any IFQ regulatory area”, and “Authorized gear for halibut harvested from any IFQ regulatory area in the BSAI” are stayed until March 12, 2017.

[FR Doc. 2017-02055 Filed 1-30-17; 8:45 am]

BILLING CODE 3510-22-P